DEPARTMENT OF THE INTERIOR

Bureau of Land Management

[AZ-933-07, 5410-KD-A507; AZA-33515]

Application for Conveyance of Federal Mineral Interests, Pima County, AZ

AGENCY: Bureau of Land Management, Interior.

ACTION: Notice of application.

SUMMARY: The surface owner of the lands described in this notice, aggregating approximately 320.00 acres, has filed an application for the purchase of the federally owned mineral interests in the lands. Publication of this notice temporarily segregates the mineral interest from appropriation under the public land laws, including the mining law.

DATES: Interested persons may submit written comments to the Bureau of Land Management (BLM) at the address stated below. Comments must be received by no later than October 11, 2007.

ADDRESSES: Bureau of Land Management, Arizona State Office, One North Central Avenue, Suite 800, Phoenix, Arizona 85004. Detailed information concerning this action, including appropriate environmental information, is available for review at the above address.

FOR FURTHER INFORMATION CONTACT: Vivian Titus, Land Law Examiner, at the above address or at 602-417-9598.

SUPPLEMENTARY INFORMATION: The surface owner of the following described lands has filed an application pursuant to section 209 of the Federal Land Policy and Management Act of 1976, 43 U.S.C. 1719(b), for the purchase and conveyance of the federally owned mineral interest in the following described lands:

Gila and Salt River Base and Meridian, Pima County, Arizona

T. 20 S., R. 10 E.,

Sec. 9, E½E½;

Sec. 10, NE¼NE¼, SW¼NW¼, W½SW¼.

Total Acres 320.00 more or less.

Effective immediately, the BLM will process the pending application in accordance with the regulations stated in 43 CFR Part 2720. Written comments concerning the application must be received by no later than the date specified above in this notice for that purpose. The purpose for a purchase and conveyance is to allow consolidation of surface and subsurface minerals ownership where (1) there are no known mineral values or (2) in those instances where the Federal mineral interest reservation interferes with or precludes appropriate nonmineral development and such development is a more beneficial use of the land than the mineral development.

On August 27, 2007 the mineral interests owned by the United States in the above described lands will be segregated to the extent that they will not be subject to appropriation under the public land laws, including the mining laws. The segregative effect shall terminate upon issuance of a patent or deed of such mineral interest; upon final rejection of the mineral conveyance application; or August 27, 2009, whichever occurs first.

(Authority: 43 CFR 2720.1-1(b))

Dated: August 20, 2007.
Helen Hankins,
Associate State Director.

[FR Doc. E7-16872 Filed 8-24-07; 8:45 am]

BILLING CODE 4310-32-P